DEPARTMENT OF STATE

22 CFR Parts 22 and 51

[Public Notice: 9111]

RIN 1400-AD76

Proposed Elimination of Visa Page Insert Service for U.S. Passport Book Holders

AGENCY: Department of State.

ACTION: Proposed rule.

SUMMARY: Currently, all U.S. passport book applicants may apply for either a 28-page or 52-page passport book at no extra charge. U.S. passport book holders may then apply for additional visa pages while the passport book is still valid. The Department of State proposes eliminating the option to add visa pages in passports beginning January 1, 2016. To help mitigate the need for visa page inserts, the Department began issuing the larger 52-page passport book in October 2014 to all overseas U.S. passport applicants at no extra cost. U.S. passport applicants applying domestically can still obtain the 52-page passport book at no extra charge by requesting it on the application form. The elimination of visa page inserts coincides with the Department's anticipated rollout of the Next Generation Passport in 2016. The Next Generation Passport incorporates new security features designed to protect the integrity of U.S. passport books against fraud and misuse. An interagency working group determined that the addition of visa page inserts could reduce the effectiveness of these new security features. If this change is implemented, the fee for this service will be removed from the Schedule of Fees for Consular Services.

DATES: Written comments must be received on or before June 29, 2015.

ADDRESSES: Interested parties may submit comments by any of the following methods:

• Visit the Regulations.gov Web site at: http://www.regulations.gov/index.cfm and search the RIN 1400-AD76 or docket number DOS-2015-0017.

• Mail (paper, disk, or CD-ROM): U.S. Department of State, Office of Passport Services, Bureau of Consular Affairs (CA/PPT), Attn: CA/PPT/IA, 44132 Mercure Circle, P.O. Box 1227, Sterling, Virginia 20166-1227.

FOR FURTHER INFORMATION CONTACT: Michael Holly, Office of Passport Services, Bureau of Consular Affairs; 202-485-6373: PassportRules@state.gov.

SUPPLEMENTARY INFORMATION:

Background

The Department proposes eliminating the visa page insert service for regular fee passport book holders beginning January 1, 2016. The expected effective date of this rule coincides with when the Department expects to begin issuing an updated version of the Next Generation Passport book. The Department routinely updates the technology used to produce U.S. passport books so that U.S. passport books use the most current anti-fraud and anti-counterfeit measures. The Next Generation Passport, which is the next update of the U.S. passport book, will contain a polycarbonate data-page and will be personalized with laser engraving. This passport will also employ conical laser perforation of the passport number through the data and visa pages; display a general artwork upgrade and new security features including watermark, security artwork, optical variable security devices, tactile features, and optically variable inks. The primary reason for eliminating visa page inserts is to protect the integrity of the Next Generation Passport books.

In 2012, an interagency working group tasked with overseeing the development and deployment of Next Generation Passport books found that visa page inserts could compromise the effectiveness of security features of the new passport books that are intended to provide greater protections against fraud and misuse. To maximize the effectiveness of the Next Generation Passport that is expected to be issued to the general public in 2016, the Department considered whether visa page inserts could be phased out at the time that the Department begins to issue the new passport books.

As part of this study, the Department considered the extent of the public's usage of visa page inserts, costs to the Department of eliminating the service, and whether any inconvenience to the public could be minimized. A study of a sample of visa page insert applications revealed that a significant majority of those applying for visa page inserts had them added to 28-page passport books, rather than to the larger 52-page books. A set of visa page inserts is 24 pages. Accordingly, a 52-page passport book is the same size as a 28-page book with a set of extra visa pages. The Department determined that the demand for additional visa pages would be substantially reduced by issuing only the larger 52-page passport books to overseas U.S. passport applicants. Accordingly, the Department has begun issuing the 52-page book to overseas applicants, who are the most likely to apply for extra visa pages, at no additional cost. This should further reduce the already limited demand for visa page inserts, thus making the rule's impact on the public very minimal. Individuals who apply for U.S. passports within the United States will continue to have the option to request a 52-page passport at no additional charge.

Each version of the Next Generation Passport book contains two fewer pages total, but the same number of visa pages as the passport books currently in circulation. Accordingly, after the Department begins issuing the Next Generation Passport book, all domestic passport book applicants will still have the option to choose between a 26-page passport book and a larger 50-page passport book, but the larger 50-page passport books will be automatically issued to people applying overseas.

The Department believes the limited demand for visa page inserts is outweighed by the importance of ensuring that the Next Generation Passport provides the maximum protection against fraud and misuse. Furthermore, the Department must monitor unused inventories of passport products, and the elimination of visa page inserts would facilitate more secure inventory controls. Accordingly, the Department proposes eliminating visa page inserts in passport books issued to the general public beginning January 1, 2016,

If this change is implemented, the fee for additional visa pages will be removed from the Schedule of Fees for Consular Services of the Department of State's Bureau of Consular Affairs (“Schedule of Fees” or “Schedule”).

What is the authority for this action?

The Secretary of State is authorized to issue U.S. passports under 22 U.S.C. 211a. The Department of State, Bureau of Consular Affairs, administers the U.S. passport issuance program and manages the consular sections of all U.S. consulates and embassies overseas. The Department of State derives the authority to eliminate visa page inserts from its statutory authority to issue U.S. passports and manage the U.S. passport issuance program.

When will the department of state implement this proposed rule?

The Department intends to implement this proposed rule on January 1, 2016.

Regulatory Findings

Administrative Procedure Act

The Department is publishing this rule as a proposed rule, with a 60-day provision for public comments.

Regulatory Flexibility Act

The Department, in accordance with the Regulatory Flexibility Act, 5 U.S.C. 605(b), has reviewed this rule and, by approving it, certifies that the proposed rule, if promulgated, will not have a significant economic impact on a substantial number of small entities as defined in 5 U.S.C. 601(6). This rule eliminates the extra visa page insert service for U.S. passport book holders. Approximately 170,000 passport book holders applied for visa page inserts during Fiscal Year 2013. Only individuals, and no small entities, apply for visa page inserts.

Unfunded Mandates Act of 1995

This rule will not result in the expenditure by state, local, and tribal governments, in the aggregate, or by the private sector, of $1 million or more in any year and it will not significantly or uniquely affect small governments. Therefore, no actions were deemed necessary under the provisions of the Unfunded Mandates Reform Act of 1995, 2 U.S.C. 1501-1504.

Small Business Regulatory Enforcement Fairness Act of 1996

This rule is not a major rule as defined by section 804 of the Small Business Regulatory Enforcement Fairness Act of 1996, since it will not result in an annual impact on the economy of $100 million or more. See 5 U.S.C. 804(2).

Executive Order 12866

This rule is not economically significant under Executive Order 12866, section 3(f)(1), because it will not have an annual impact on the economy of $100 million or more. This rule has been submitted to the Office of Management and Budget for review.

The Department expects the proposed rule's impact on the public to be minimal because of the already low demand for visa page inserts and steps taken by the Department to reduce that demand even further. In Fiscal Year 2013, the Department processed only 170,000 requests for additional visa pages. By comparison, the Department issued more than 12 million passports during the same time period, and there are more than 122 million passports in circulation. The Department estimates that 97 percent of renewed U.S. passport books will use less than 18 visa pages, which is a strong indication that current book sizes (28 pages and 52 pages) meet the needs of U.S. travelers.

The Department of State does not anticipate that demand for passport services affected by this rule will change significantly because of the elimination of visa page inserts, and welcomes public comment on that expectation.

Executive Order 13132

This rule will not have substantial direct effects on the states, on the relationship between the national government and the states, or on the distribution of power and responsibilities among the various levels of government. Therefore, in accordance with section 6 of Executive Order 13132, the Department has determined that this rule does not have sufficient federalism implications to require consultations or warrant the preparation of a federalism summary impact statement.

Paperwork Reduction Act

This rule does not impose or alter any reporting or record-keeping requirements under the Paperwork Reduction Act.

List of Subjects in 22 CFR Parts 22 and 51

Consular services, fees, passports and visas.

Accordingly, for the reasons stated in the preamble, 22 CFR parts 22 and 51 are proposed to be amended as follows:

PART 22—[AMENDED]

1. The authority citation for part 22 continues to read as follows:

Authority: 8 U.S.C. 1101 note, 1153 note, 1183a note, 1351, 1351 note, 1714, 1714 note; 10 U.S.C. 2602(c); 11 U.S.C. 1157 note; 22 U.S.C. 214, 214 note, 1475e, 2504(a), 4201, 4206, 4215, 4219, 6551; 31 U.S.C. 9701; Executive Order 10,718,22 FR 4632; Executive Order 11,295,31 FR 10603.

2. Amend the table in § 22.1 to revise item 2c to read as follows:

§ 22.1 Schedule of Fees for Consular Services.

* * * * *

Item No. | Fee
PAssport and Citizenship Services
* * * * *
2. * * *
(c) [RESERVED]
* * * * *

PART 51—[AMENDED]

1. The authority citation for part 51 continues to read as follows:

Authority: 8 U.S.C. 1101 note, 1153 note, 1183a note, 1351, 1351 note, 1714,1714 note; 10 U.S.C. 2602 (c); 11 U.S.C. 1157 note; 22 U.S.C. 214, 214 note, 1475e, 2504(a), 4201,4206,4215, 4219,6551; 31 U.S.C. 9701; Executive Order 10,718,22 FR4632; Executive Order 11,295,31 FR 10603.

4. In § 51.20 revise paragraph (a) to read as follows:

§ 51.20 General.

(a) An application for a passport, a replacement passport, or other passport related service must be completed using the forms the Department prescribes.

* * * * *

5. In § 51.56, revise paragraph (a) to read as follows:

§ 51.56 Expedited passport processing.

(a) Within the United States, an applicant for a passport service (including issuance or the replacement of a passport) may request expedited processing. The Department may decline to accept the request.

* * * * *

Dated: April 8, 2015.
Michele T. Bond,
Assistant Secretary for Consular Affairs, Acting.

[FR Doc. 2015-09719 Filed 4-28-15; 8:45 am]

BILLING CODE 4710-06-P